DEPARTMENT OF JUSTICE

Notice of Lodging of Consent Decree Under the Clean Water Act

Notice is hereby given that on April 19, 2012, a proposed Consent Decree in United States and the State of Kansas v. E.I. du Pont de Nemours and Co., 6:12-cv-01146-EFM-KMH, was lodged with the United States Court for the District of Kansas. The Joint Complaint filed by the United States and State of Kansas alleges claims for natural resource damages under the Clean Water Act and Kansas state law. The proposed Consent Decree settles these claims in exchange for a payment by Defendant of $252,739 in natural resource damages and reimbursement of natural resource damage assessment costs.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to United States and the State of Kansas v. E.I. du Pont de Nemours and Co., 90-11-2-1081/6.

During the public comment period, the Second Consent Decree may also be examined on the following Department of Justice Web site, to http://www.usdoj.gov/enrd/Consent_Decrees.html. A copy of the Consent Decree may also be obtained by mail from the Consent Decree Library, P.O. Box 7611, U.S. Department of Justice, Washington, DC 20044-7611 or by faxing or emailing a request to “Consent Decree Copy” (EESCDCopy.ENRD@usdoj.gov), fax No. (202) 514-0097, phone confirmation number (202) 514-5271. If requesting a copy from the Consent Decree Library by mail, please enclose a check in the amount of $6 (25 cents per page reproduction cost) payable to the U.S. Treasury or, if requesting by email or fax, forward a check in that amount to the Consent Decree Library at the address given above.

Robert E. Maher, Jr.,
Assistant Section Chief, Environmental Enforcement Section, Environment and Natural Resources Division.

[FR Doc. 2012-10390 Filed 4-30-12; 8:45 am]

BILLING CODE 4410-15-P